DEPARTMENT OF LABOR

Employment and Training Administration

[NAFTA-05773]

Superior Milling, Inc., Watersmeet, MI; Notice of Negative Determination Regarding Application for Reconsideration

By application dated May 29, 2002, the employees requested administrative reconsideration of the Department's negative determination regarding eligibility to apply for North American Free Trade Agreement-Transitional Adjustment Assistance (NAFTA-TAA), applicable to workers and former workers of the subject firm. The denial notice was signed on April 18, 2002, and was published in the Federal Register on May 2, 2002 (67 FR 22115).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The denial of NAFTA-TAA for workers engaged in activities related to the production of rough green lumber at Superior Milling, Inc, Watersmeet, Michigan was based on the finding that criteria (3) and (4) of the group eligibility requirements of paragraph (a)(1) of Section 250 of the Trade Act, as amended, were not met. There were no increased company imports of rough green lumber from Mexico or Canada, nor did the subject firm shift production from the subject plant to Mexico or Canada. A survey of customers conducted by the Department of Labor revealed that customers did not increase their import purchase of products like or directly competitive with those produced at the Watersmeet plant from Canada or Mexico during the relevant period.

The petitioner alleges that some customers of the subject plant imported rough green lumber during the relevant period. The petitioner also specifies which customers they believe are importing rough green lumber and thus impacting the subject plant.

A review of the initial investigation and the corresponding survey results conducted during the investigation shows that the company supplied a customer list that accounted for greater than 85% of the subject plant's sales for the years 2000 and 2001. Extrapolating the provided customer list sales from subject plant sales shows that the unreported customers as a group increased their purchases from the subject firm during the relevant period.

During the initial investigation the Department of Labor surveyed the reported declining customers of the subject firm regarding their purchases of rough green lumber during the relevant period (2000 and 2001). The survey revealed that none of the respondents increased their imports of rough green lumber from Canada or Mexico during the relevant period.

The petitioner further alleges that a major customer imported a sizeable amount of flooring stock from Canada and believes that those imports adversely affected the profitability of the Superior Milling.

Imports of flooring stock from Canada by the major customer is not “like or directly competitive” with articles produced by the firm and therefore is not a relevant factor in meeting the eligibility requirement of section 250 of the Trade Act.

Conclusion

After review of the application and investigative findings, I conclude that there has been no error or misinterpretation of the law or of the facts which would justify reconsideration of the Department of Labor's prior decision. Accordingly, the application is denied.

Signed at Washington, DC this 21st day of June 2002.
Edward A. Tomchick,
Director, Division of Trade Adjustment Assistance.

[FR Doc. 02-17149 Filed 7-8-02; 8:45 am]

BILLING CODE 4510-30-P